DEPARTMENT OF AGRICULTURE

Forest Service

Notice of Proposed New Fee Sites; Federal Lands Recreation Enhancement Act, (Title VIII, Pub. L. 108-447)

AGENCY: Plumas National Forest, USDA Forest Service.

ACTION: Notice of Proposed New Fee Sites.

SUMMARY: The Plumas National Forest is planning to charge new fees at four recreation campgrounds within the Lakes Basin Recreation Area. All sites have had amenities added to improve services and experiences. Fees are assessed based on the level of amenities and services provided, cost of operation and maintenance, market assessment, and public comment. The fees listed are only proposed and will be determined upon further analysis and public comment. Funds from fees would be used for the continued operation and maintenance and improvement of these recreation sites. Gold Lake Campground (37 sites), Gold Lake 4x4 Campground (16 sites), Goose Lake Campground (13 sites) and Haven Lake Campground (4 sites), are currently fee free sites. The use at these popular campgrounds is historic and the sites are rustic. Improvements have been made including designating 70 campsites, installing fire rings, and adding garbage service. Three new toilets and picnic tables were installed at the Gold Lake 4x4 campground. One new toilet was installed at Goose Lake Campground. Improvements will address sanitation and safety concerns, and improve deteriorating resource conditions and recreation experiences. A financial analysis is being completed to determine fee rates. The proposed fee to help maintain this site would range between $8 and $10 a campsite and $3.00 per one additional vehicle per campsite.

DATES: New fees would begin after July 2009.

ADDRESSES: Alice B. Canton, Forest Supervisor, Plumas National Forest, 159 Lawrence Street, Quincy, California 95971.

FOR FURTHER INFORMATION CONTACT: Judy Schaber, Assistant Resource Officer, Recreation, 530-836-2575.

SUPPLEMENTARY INFORMATION: The Federal Recreation Lands Enhancement Act (Title VII, Pub. L. 108-447) directed the Secretary of Agriculture to publish a six month advance notice in the Federal Register whenever new recreation fee areas are established. Once public involvement is complete, these new fees will be reviewed by a Recreation Resource Advisory Committee prior to a final decision and implementation. Campsites will continue to be available on a first come, first served basis.

Dated: November 24, 2008.
Alice B. Carlton,
Forest Supervisor.

[FR Doc. E8-29129 Filed 12-11-08; 8:45 am]

BILLING CODE 3410-11-M